DEPARTMENT OF HEALTH AND HUMAN SERVICES

Office of Refugee Resettlement

Final Notice for FY 2005 Formula Allocation for Targeted Assistance Grants to States for Services to Refugees

AGENCY: Office of Refugee Resettlement (ORR), ACF, HHS.

ACTION: Final notice of availability of allocations for FY 2005 targeted assistance grants to States for services to refugees ¹ in local areas of high need.

¹ In addition to persons who meet all requirements of 45 CFR 400.43, “Requirements for documentation of refugee status,” eligibility for targeted assistance includes refugees, asylees, Cuban and Haitian entrants, certain Amerasians from Viet Nam who are admitted to the U.S. as immigrants, certain Amerasians from Viet Nam who are U.S. citizens and victims of a severe form of trafficking who receive certification or eligibility letters from ORR, and certain other specified family members of trafficking victims. See Section II of this notice on “Authorization,” and refer to 45 CFR 400.43 and the ORR State Letter #01-13 on the Trafficking Victims Protection Act dated May 3, 2001, as modified by ORR State Letter #02-01, January 4, 2002, and ORR State Letter #04-12, June 18, 2004. The term “refugee,” used in this notice for convenience, is intended to encompass such additional persons who are eligible to participate in refugee program services, including the targeted assistance program.

[CFDA No. 93.584, Refugee and Entrant Assistance—Targeted Assistance Grants]

SUMMARY: This final notice announces the availability of funds and award procedures for FY 2005 Targeted Assistance Program (TAP) grants to States for services to refugees under the Refugee Resettlement Program (RRP). These grants are for service provision in localities with large refugee populations, high refugee concentrations, and where specific needs exist for supplementation of currently available resources.

Qualification of counties for eligibility for targeted assistance program grants is determined once every three years as stated in the FY 1999 Notice of Proposed Availability of Targeted Assistance Allocations to States which was published in the Federal Register on March 10, 1999 (64 FR 11927). The FY 2002-FY 2004 three-year project cycle has expired. FY 2005 is the year for the re-qualification of counties for the three-year project cycle, FY 2005, FY 2006, and FY 2007 for TAP funds. Qualifications of counties are based on the arrivals of refugees (see Footnote 1, eligible population) during the 5-year period from FY 2000 through FY 2004, and on the concentration of the arrivals population as a percentage of the general population. Counties that qualify for TAP FY 2005 funds on the basis of the most current 5-year population are listed in this proposed notice in Table 1, Table 2, Table 4, and Table 6.

Under this final notice, a total of 48 counties (Table 1) qualify for targeted assistance grants. Of these, 6 new counties (Table 2) qualify for targeted assistance grants, and 11 counties (Table 3) which previously received targeted assistance grants no longer qualify for targeted assistance program funding.

Application Deadline: Application deadline for targeted assistance program funding will be September 12, 2005. A full application is required this qualifying year, FY 2005. Six (6) new counties are eligible for targeted assistance. Counties that have received TAP funds in the past and will continue to qualify for TAP have not been required to submit a full application since FY 2002. Application requirements in the second and third of a 3-year project cycle will be less extensive.

FOR FURTHER INFORMATION CONTACT: Kathy Do, Division of Budget, Policy and Data Analysis (DBPDA), (202) 401-4579; e-mail: kdo@acf.hhs.gov.

SUPPLEMENTARY INFORMATION:

I. Purpose and Scope

This final notice announces the availability of Fiscal Year 2005 funds for targeted assistance grants for services to refugees (see Footnote 1 for eligible population) in counties where, because of factors such as unusually large refugee populations and high refugee concentrations, there exists and can be demonstrated a specific need for supplementation of resources for services to this population.

The Office of Refugee Resettlement (ORR) has available $49,081,000 in FY 2005 funds for the targeted assistance program (TAP) as part of the FY 2005 appropriation under the Consolidated Appropriations Act, 2005, (Pub. L. 108-447).

The Director of the Office of Refugee Resettlement (ORR) plans to use the $49,081,000 in targeted assistance funds as follows:

• $44,173,066 will be allocated to States under the 5-year population formula, as set forth in this final notice.

• $4,907,934 (10% of the total) will be used to award discretionary grants to States under continuation grant awards.

The purpose of targeted assistance grants is to provide, through a process of local planning and implementation, direct services intended to result in the economic self-sufficiency and reduced welfare dependency of refugees through job placements.

The targeted assistance program reflects the requirements of section 412(c)(2)(B) of the Immigration and Nationality Act (INA), which provides that targeted assistance grants shall be made available “(i) primarily for the purpose of facilitating refugee employment and achievement of self-sufficiency, (ii) in a manner that does not supplant other refugee program funds and that assures that not less than 95 percent of the amount of the grant award is made available to the county or other local entity.”

II. Authorization

Targeted assistance projects are funded under the authority of section 412(c)(2) of the Immigration and Nationality Act (INA), as amended by the Refugee Assistance Extension Act of 1986 (Pub. L. 99-605), 8 U.S.C. 1522(c)(2); section 501(a) of the Refugee Education Assistance Act of 1980 (Pub. L. 96-422), 8 U.S.C. 1522 note, insofar as it incorporates by reference with respect to Cuban and Haitian entrants the authorities pertaining to assistance for refugees established by section 412(c)(2) of the INA, as cited above; section 584(c) of the Foreign Operations, Export Financing, and Related Programs Appropriations Act, 1988, as included in the FY 1988 Continuing Resolution (Pub. L. 100-202), insofar as it incorporates by reference with respect to certain Amerasians from Viet Nam the authorities pertaining to assistance for refugees established by section 412(c)(2) of the INA, as cited above, including certain Amerasians from Viet Nam who are U.S. citizens, as provided under title II of the Foreign Operations, Export Financing, and Related Programs Appropriations Acts, 1989 (Pub. L. 100-461), 1990 (Pub. L. 101-167), and 1991 (Pub. L. 101-513); section 107(b)(1)(A) of the Trafficking Victims Protection Act of 2000 (Pub. L. 106-386), and as amended by the Trafficking Victims Protection Reauthorization Act of 2003 (Pub. L. 108-193), insofar as it states that a victim of a severe form of trafficking and certain other specified family members shall be eligible for federally funded or administered benefits and services to the same extent as a refugee.

III. Client and Service Priorities

Targeted assistance funding must be used to assist refugee families to achieve economic independence. To this end, States and counties are required to ensure that a coherent family self-sufficiency plan (FSSP), employment development plan (EDP), or individual employability plan (IEP) is developed for each eligible family that addresses the family's needs from time of arrival until attainment of economic independence. (See 45 CFR 400.79, 400.156(g), and 400.317). Each family self-sufficiency plan or employment development plan should address a family's needs for both employment-related services and other needed social services. The plan must include: (1) A determination of the income level a family would have to earn to exceed its cash grant and move into self-support without suffering a monetary penalty; (2) a strategy and timetable for obtaining that level of family income through the placement in employment of sufficient numbers of employable family members at sufficient wage levels; (3) employability plans for every employable member of the family; and (4) a plan to address the family's social services needs that may be barriers to self-sufficiency. In local jurisdictions that have targeted assistance and refugee social services programs, one family self-sufficiency plan may be developed for a family that incorporates both targeted assistance and refugee social services.

Services funded through the targeted assistance program are required to focus primarily on those refugees who, either because of their protracted use of public assistance or difficulty in securing employment, continue to need services beyond the initial years of resettlement. States may not provide services funded under this notice, except for referral and interpreter services, to refugees who have been in the United States for more than 60 months (5 years). (See 45 CFR 400.315).

In accordance with 45 CFR 400.314, States are required to provide targeted assistance services to refugees in the following order of priority, except in certain individual extreme circumstances: (a) Refugees who are cash assistance recipients, particularly long-term recipients; (b) unemployed refugees who are not receiving cash assistance; and (c) employed refugees in need of services to retain employment or to attain economic independence.

In addition to the statutory requirement that TAP funds be used “primarily for the purpose of facilitating refugee employment” (section 412(c)(2)(B)(i) of the INA), funds awarded under this program are intended to help fulfill the congressional intent that “employable refugees should be placed on jobs as soon as possible after their arrival in the United States” (section 412(a)(1)(B)(i) of the INA). Therefore, in accordance with 45 CFR 400.313, targeted assistance funds must be used primarily for employability services designed to enable refugees to obtain jobs with less than one year's participation in the targeted assistance program in order to achieve economic self-sufficiency as soon as possible. Targeted assistance services may continue to be provided after a refugee has entered a job to help the refugee retain employment or move to a better job. Targeted assistance funds may not be used for long-term training programs such as vocational training that last for more than a year or educational programs that are not intended to lead to employment within a year.

In accordance with 45 CFR 400.317, if targeted assistance funds are used for the provision of English language training, such training must be provided in a concurrent, rather than sequential, time period with employment or with other employment-related activities.

A portion of a local area's allocation may be used for services that are not directed toward the achievement of a specific employment objective in less than one year but that are essential to the adjustment of refugees in the community, provided such needs are clearly demonstrated and such use is approved by the State. (See 45 CFR 400.316).

Reflecting section 412(a)(1)(A)(iv) of the INA, States must “ensure that women have the same opportunities as men to participate in training and instruction.” Additionally, in accordance with 45 CFR 400.317, services must be provided to the maximum extent feasible in a manner that includes the use of bilingual/bicultural women on service agency staff to ensure adequate service access by refugee women. The Director, ORR, also strongly encourages the inclusion of refugee women in management and board positions in agencies that serve refugees. In order to facilitate refugee self-support, the Director also expects States to implement strategies which address simultaneously the employment potential of both male and female wage earners in a family unit. States and counties are expected to make every effort to obtain child care services, preferably subsidized child care, for children in order to allow women with children the opportunity to participate in employment services or to accept or retain employment. To accomplish this, child care may be treated as an employment-related service under the targeted assistance program. Refugees who are participating in targeted assistance-funded or social services-funded employment services or have accepted employment are eligible for child care services for their children. States and counties are expected to use child care funding from other publicly-administered programs such as child care services funded under the Temporary Assistance for Needy Families (TANF) or under the Child Care and Development Block Grant (CCDBG) as a primary resource. States and counties are encouraged to work with service providers to ensure mainstream access for refugees to other publicly funded resources for child care. For an employed refugee, targeted assistance-funded child care should be limited to situations in which no other publicly funded child care funding is available. In these cases, child care services funded by targeted assistance should be limited to one year after the refugee becomes employed.

In accordance with 45 CFR 400.317, targeted assistance services must be provided in a manner that is culturally and linguistically compatible with a refugee's language and cultural background, to the maximum extent feasible. In light of the increasingly diverse population of refugees who are resettling in this country, refugee service agencies will need to develop practical ways of providing culturally and linguistically appropriate services to a changing ethnic population. Services funded under this notice must be refugee-specific services that are designed specifically to meet refugee needs and are in keeping with the rules and objectives of the refugee program. Short-term vocational or job-skills training, on-the-job training (OJT), or English language training (ELT), however, need not be refugee-specific.

ORR strongly encourages States and counties when contracting for targeted assistance services, including employment services, to give consideration to the special strengths of mutual assistance associations (MAAs), whenever contract bidders are otherwise equally qualified, provided that the MAA has the capability to deliver services in a manner that is culturally and linguistically compatible with the background of the target population to be served. ORR also strongly encourages MAAs to ensure that their management and board composition reflect the major target populations to be served.

ORR defines MAAs as organizations with the following qualifications:

a. The organization is legally incorporated as a nonprofit organization; and

b. Not less than 51% of the composition of the Board of Directors or governing board of the mutual assistance association is comprised of refugees or former refugees, including both refugee men and women.

Finally, in order to provide culturally and linguistically compatible services in as cost-efficient a manner as possible in time of limited resources, ORR strongly encourages States and counties to promote and give special consideration to the provision of services through coalitions of refugee service organizations, such as coalitions of MAAs, voluntary resettlement agencies, or a variety of service providers. ORR believes it is essential for refugee-serving organizations to form close partnerships in the provision of services to refugees in order to be able to respond adequately to a changing refugee environment. States and counties are encouraged to consider as eligible for TAP funds entities that are public or private non-profit agencies which may include faith-based, refugee or community-based organizations. Additionally, coalition-building and consolidation of providers is particularly important in communities with multiple service providers in order to ensure better coordination of services and maximum use of funding for services by minimizing the funds used for multiple administrative overhead costs.

The award of funds to States under this final notice will be contingent upon the completeness of a State's application as described in section IX, below.

IV. Discussion of Comments Received

Five States submitted comments in response to the proposed notice of FY 2005 funds for targeted assistance. The comments are summarized below and are followed by ORR's response.

Comment: Two States submitted information requesting participation in the targeted assistance program.

Response: Of the two requesting States, one is found to have a county which ranked within the top 48 counties qualified for targeted assistance funds, therefore, the State is included in this qualifying project cycle (FY 2005—FY 2007). County data (refugees, asylees, and secondary migrants) submitted by the other State failed to make the cut-off point. The county is ranked number 62. Data on secondary migrants is not considered for targeted assistance population count due to the improbable task of tracking in-migration and out-migration for all targeted assistance counties nationwide in order to arrive at adjusted population estimates.

Comment: Two States requested re-consideration of their counties due to unprecedented new arrivals of secondary migration of refugees.

Response: As stated in the above response, data on secondary migration is not considered for targeted assistance population count.

Comment: One State requested reconsideration of one of its counties which was eliminated in this qualifying cycle.

Response: ORR conducted the final re-allocation task taking into account all eligibility factors which are outlined in the statute for which data are available. The said county ranked number 69 on the list.

ORR understands that discontinuing funding in the counties that no longer qualify for TAP will undoubtedly have an effect on the services in those counties. However, funds must be directed to those counties that are most impacted by recent arrivals as required by statute.

V. Eligible Grantees

Eligible grantees are: 1. Agencies of State governments that are responsible for the refugee program under 45 CFR 400.5 in States containing counties which qualify for FY 2005 targeted assistance awards; and 2. non-State agencies funded under the Wilson-Fish program which administer, in lieu of a State, a statewide refugee assistance program containing counties which qualify for FY 2005 targeted assistance formula funds. All such grantees will hereinafter be referred to as “the State”.

The Director of ORR determines the eligibility of counties for inclusion in the FY 2005 targeted assistance program on the basis of the method described in section VI of this notice.

The use of targeted assistance funds for services to Cuban and Haitian entrants is limited to States which have an approved State plan under the Cuban/Haitian Entrant Program (CHEP).

The State agency will submit a single application to ORR on behalf of all county governments of the qualified counties in that State. Subsequent to the approval of the State's agency application by ORR, local targeted assistance plans will be developed by the county government or other designated entity and submitted to the State agency.

A State with more than one qualified county is permitted, but not required, to determine the allocation amount for each qualified county within the State. However, if a State chooses to determine county allocations differently from those set forth in the final notice, in accordance with 45 CFR 400.319, the FY 2005 allocations proposed by the State must be based on the State's population of refugees who arrived in the U.S. during the most recent 5-year period. A State may use welfare data as an additional factor in the allocation of its targeted assistance funds if it so chooses; however, a State may not assign a greater weight to welfare data than it has assigned to population data in its allocation formula. In addition, if a State chooses to allocate its FY 2005 targeted assistance funds in a manner different from the formula set forth in the final notice, the FY 2005 allocations and methodology proposed by the State must be included in the State's application for ORR review and approval.

Applications submitted in response to this final notice are not subject to review by State and area wide clearinghouses under Executive Order 12372, “Intergovernmental Review of Federal Programs.”

VI. Qualification and Allocation

For FY 2005, ORR used the formula which bases allocation of targeted assistance funds on the most current 5-year arrivals data on refugees (See Footnote 1, eligible population). Targeted assistance services are limited to the arrival population residing in qualified counties who have been in the U.S. five years or less. As stated in the FY 1999 notice of proposed availability of targeted assistance allocations to States which was published on March 10, 1999 (64 FR 11927), the Director of ORR proposes to determine the qualification of counties for targeted assistance once every three years. The FY 2002—FY 2004 three-year project cycle has expired. This final notice consists of the 48 qualified counties for the FY 2005—FY 2007 three-year project cycle for TAP funds. Counties qualified for TAP FY 2005 funds on the basis of the most current 5-year (10/1/99—9/30/04) population are listed in Tables 1, 2, 4, and 6 in this final notice.

A. Qualifying Counties

For FY 2005 targeted assistance funds, a county (or group of adjacent counties with the same Standard Metropolitan Statistical Area, or SMSA) or independent city, was required to: rank above a selected cut-off point of jurisdictions for which data were reviewed, based on two criteria: (a) The number of refugee arrivals placed in the county during the most recent 5-year period (FY 2000—FY 2004); and (b) the 5-year refugee arrival population as a percent of the county overall population.

With regards to the first qualification criteria, each county was ranked on the basis of its 5-year refugee arrival population and its concentration of refugees, with a relative weighting of 2 to 1 respectively, because it is believed that large numbers of arrivals (see Footnote 1, eligible population) into a county create a significant impact, regardless of the ratio of refugees to the county general population.

ORR decided to limit the number of qualified counties based on ranking order to the top 48 counties (Table 1) in order to target a sufficient level of funding to the most impacted counties. Each county was ranked in terms of the sum of a county's rank on refugee arrivals and its rank on concentration. A county had to rank within the top 48 counties to qualify for targeted assistance funds.

ORR screened data on all counties that have received awards for targeted assistance since FY 1983, and on all other counties that could potentially qualify for TAP funds based on the criteria published in the proposed notice. Analysis of these data indicates that: (a) Forty-eight (48) counties qualify for targeted assistance funds, Table 1; (b) eleven (11) counties which have previously received targeted assistance would no longer qualify, Table 3; and (c) six (6) new counties qualify for FY 2005 targeted assistance funds, Table 2.

The 48 counties listed in this final notice as qualified to apply for FY 2005 TAP funding would remain qualified for TAP funding through FY 2007. ORR does not plan to consider the eligibility of additional counties for TAP funding until FY 2008, when ORR will again review data on all counties that could potentially qualify for TAP funds based on the criteria contained in the proposed notice published in the June 17, 2005, Federal Register [70 FR, vol. 116 (June 17, 2005)]. It is believed that a more frequent re-determination of county qualification for targeted assistance would not provide qualifying counties a sufficient period of time within a stable funding climate to adequately address the refugee impact in their counties, while a less frequent re-determination of county qualification would pose the risk of not considering new population impacts in a timely manner.

B. Allocation Formula

The FY 2005 targeted assistance amount, $44,173,066, is allocated by formula to States for the 48 qualified counties based on the initial placements in these counties during the 5-year period from FYs 2000 through 2004 (October 1, 1999-September 30, 2004). Data from the ORR Refugee Arrivals Data System (RADS) was used for the final allocation of funds for targeted assistance. This includes the total number of refugees, Cuban/Haitian entrants, parolees, and Amerasians from Viet Nam. Data on victims of severe forms of trafficking was from the certification and eligibility letters issued by ORR. Trafficking victims have been eligible for services since October 2000 and their family members since December 2003. Data on the number of asylees who have been served in FYs 2000 through 2004 through the refugee resettlement program or social service system were provided by States, including those in response to the proposed notice. For FYs 2000 through 2004, Havana parolees were derived from actual data.

For FY 2005 allocation, many States responded to ORR's voluntary process for data submission on their number of asylees, entrants, or trafficking victims prior and after issuance of the proposed allocations notice. This voluntary process helped minimize adjustments of final allocations. States used the standardized EXCEL format suggested by ORR to submit data on asylees, entrants, and/or victims of a severe form of trafficking served during the 5-year period from FYs 2000 through 2004 (October 1, 1999-September 30, 2004). Data for each population group was submitted separately on an EXCEL spreadsheet. Data submitted was verified by ORR against the ORR arrivals database (RADS), and as a result of this process, adjustments were included in this final notice for FY 2005 allocations for targeted assistance funds.

Documentation submitted by States include the name of state, name of county, name of refugee (see Footnote 1, eligible population), alien number, date of birth and date of arrival in the U.S. for each of the eligible populations claimed for targeted assistance funding. Listings of refugees who were not identified by their alien numbers (A-Numbers) were not considered.

Additionally, in FY 2005, ORR asked States to submit list of asylees that they have served in their Targeted Assistance employment services programs. About 49,000 names were submitted. ORR matched these names and A-Numbers with the data that ORR had received from the U.S. Citizenship and Immigration Services (USCIS) and the Executive Office of Immigration Review (EOIR). However, only about 47 percent or 23,337 of the names submitted were found to match with the records in the database. The primary reasons for the unmatched submissions were that the asylum claim was granted outside the five-year eligibility period, the A-Number did not appear in the ORR database, or the name submitted did not match the A-Number and name in the ORR database. The reason for the lack of the A-number occurred when the head of household applied for asylum but failed to list his/her family members in the asylum claim. The family members eventually received derivative asylum status based upon the head of household claim. These family members may have received ORR-funded services, however, their names do not appear in the database of asylum claimants because they were not included in the initial asylum application of the head of household. Therefore, these individuals remain unverifiable.

VII. Allocations

Table 1 lists the 48 qualifying counties, the State, the number of refugee arrivals (see Footnote 1, eligible population) in those counties during the 5-year period from October 1, 1999-September 30, 2004, the concentration percent to the county overall population, the sum of ranks population, and each county's rank, based on the qualification formula described above.

Table 2 lists the 6 new eligible counties that qualify under the targeted assistance criteria.

Table 3 lists the 11 counties which no longer qualify for TAP funds based upon the qualification formula.

Table 4 lists the final targeted assistance allocations by county for FY 2005.

Table 5 lists the final allocations by State for FY 2005.

Table 6 lists the targeted assistance areas.

VIII. Application and Implementation Process

Under the FY 2005 targeted assistance program, States may apply for and receive grant awards on behalf of qualified counties in the State. A single allocation will be made to each State by ORR on the basis of an approved State application. The State agency will, in turn, receive, review, and determine the acceptability of individual county targeted assistance plans.

Pursuant to 45 CFR 400.210(b), FY 2005 targeted assistance funds must be obligated by the State agency no later than one year after the end of the Federal fiscal year in which the Department awarded the grant. Funds must be liquidated within two years after the end of the Federal fiscal year in which the Department awarded the grant. A State's final financial report on targeted assistance expenditures must be received no later than ninety days after the end of the two-year expenditure period. If final reports are not received on time, the Department will de-obligate any unexpended funds, including any un-liquidated obligations, on the basis of the State's last filed report.

The requirements regarding the discretionary portion of the targeted assistance program will be addressed under separate continuation grant awards. Continuation applications for these funds are therefore not subject to provisions contained in this notice but to other requirements which will be conveyed separately.

IX. Application Requirements

In applying for targeted assistance funds, a State agency is required to provide the following:

A. Assurance that the targeted assistance funds will be used in accordance with the requirements for grants in 45 CFR part 400.

B. Assurance that the targeted assistance funds will be used in compliance with the administrative requirements for grants in 45 CFR part 92.

C. Assurance that targeted assistance funds will be used primarily for the provision of services which are designed to enable refugees to obtain jobs with less than one year's participation in the targeted assistance program. States must indicate what percentage of FY 2005 targeted assistance formula allocation funds that are used for services will be allocated for employment services.

D. Assurance that targeted assistance funds will not be used to offset funding otherwise available to counties or local jurisdictions from the State agency in its administration of other refugee programs, such as social services, cash and medical assistance.

E. The name of the local agency administering the funds, the name and telephone number of the responsible person, if administered locally.

F. The amount of funds to be awarded to the targeted county or counties. In instances where a State receives targeted assistance funding for impacted counties contained in a standard metropolitan statistical area (SMSA) that includes a county or counties located in a neighboring State, the State receiving those funds must provide a description of coordination and planning activities undertaken with the State Refugee Coordinator of the neighboring State in which the impacted county or counties are located. These planning and coordination activities should result in a proposed allocation plan for the equitable distribution of targeted assistance funds by county based on the distribution of the eligible population by county within the SMSA. The proposed allocation plan must be included in the State's application to ORR.

G. Assurance that county targeted assistance plans will include:

1. A description of the local planning process for determining targeted assistance priorities and services, taking into consideration all other ORR-funded services available to the refugee population, including formula social services.

2. Identification of refugee/entrant populations to be served by targeted assistance projects, including approximate numbers of clients to be served, and a description of characteristics and needs of targeted populations. (As per 45 CFR 400.314).

3. Description of specific strategies and services to meet the needs of targeted populations.

4. The relationship of targeted assistance services to other services available to refugees/entrants in the county including formula allocated ORR social services to States/Wilson-Fish agencies.

5. Analysis of available employment opportunities in the local community. Examples of acceptable analysis of employment opportunities might include surveys of employers or potential employers of refugee clients, surveys of presently effective employment service providers, review of studies on employment opportunities/forecasts which would be appropriate to the refugee populations.

6. Description of the monitoring and oversight responsibilities to be carried out by the county or qualifying local jurisdiction.

H. Assurance that the local administrative budget will not exceed 15% of the local allocation. Targeted assistance grants are cost-based awards. Neither a State nor a county is entitled to a certain amount for administrative costs. Rather, administrative cost requests should be based on projections of actual needs. All TAP counties will be allowed to spend up to 15% of their allocation on TAP administrative costs, as need requires. However, States and counties are strongly encouraged to limit administrative costs to the extent possible to maximize available funding for services to refugees.

I. For any State that administers the program directly or otherwise provides direct services to the refugee/entrant/asylee population in a qualified county (with the concurrence of the county), the State must have the same information contained in a county plan prior to issuing a Request for Proposals (RFP) for services. States that administer the TAG program directly may spend no more than 5% of the total allocation, and up to 10% of the county's allocation, on administrative costs that are reasonable, allocable, and necessary.

J. A description of the State's plan for conducting fiscal and programmatic monitoring and evaluations of the targeted assistance program, including frequency of on-site monitoring.

K. A line item budget and justification for State administrative costs limited to a maximum of 5% of the total award to the State. Assurance that the State will make available to the county or designated local entity not less than 95% of the amount of its formula allocation for purposes of implementing the activities proposed in its plan. As stated previously, States that administer the program directly in lieu of the county (through a mutual agreement with the qualifying county), may spend no more than 5% of the total award, and up to 10% of the county's TAG allocation on administrative costs. The administrative costs must be reasonable, allocable, and necessary. Allocable costs for State contracting and monitoring for targeted assistance, if charged, must be charged to the targeted assistance grant and not to general State administration.

X. Results or Benefits Expected

All applicants must establish proposed targeted assistance performance goals for each of the six ORR performance outcome measures for each impacted county's proposed service contract(s) or sub-grants for the next contracting cycle. Proposed performance goals must be included in the application for each performance measure. The six ORR performance measures are: entered employments, cash assistance reductions due to employment, cash assistance terminations due to employment, 90-day employment retentions, average wage at placement, and job placements with available health benefits. Targeted assistance program activity and progress achieved toward meeting performance outcome goals are to be reported quarterly on the ORR-6, the “Quarterly Performance Report.”

States that are currently grantees for targeted assistance funds should base projected annual outcome goals on past performance. Current grantees should have adequate baseline data for all of the six ORR performance outcome measures based on a history of targeted assistance program experience.

States identified as new eligible targeted assistance grantees are also required to set proposed outcome goals for each of the six ORR performance outcome measures. New grantees may use baseline data, as available, and current data as reported on the ORR-6 for social services program activity to assist them in the goal-setting process.

New qualifying counties within States that are current grantees are also required to set proposed outcome goals for each of the six ORR performance outcome measures. New counties may use baseline data, as available, and current data as reported on the ORR-6 for social services program activity to assist them in the goal-setting process.

Proposed targeted assistance outcome goals should reflect improvement over past performance and strive for continuous improvement during the project period from one year to another.

Final targeted assistance outcome goals are due on November 15, 2005, in conjunction with the ORR Government Performance and Results Act (GPRA) cycle.

XI. Budget and Budget Justification

Provide line item detail and detailed calculations for each budget object class identified on the Budget Information form (424A). Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs. The Office of Refugee Resettlement is particularly interested in the following:

A line item budget and justification for State administrative costs limited to a maximum of 5% of the total award to the State. Each total budget period funding amount requested must be necessary, reasonable, and allocable to the project. States that administer the program locally in lieu of the county, through a mutual agreement with the qualifying county, may request administrative costs that add up to, but may not exceed, 10% of the county's TAP allocation to the State's administrative budget.

XII. Reporting Requirements

States are required to submit quarterly reports on the outcomes of the targeted assistance program, using Schedule A and Schedule C of the ORR-6 Quarterly Performance Report (0970-0036).

XIII. The Paperwork Reduction Act of 1995 (Pub. L. 104-13)

All information collections within this program notice are approved under the following valid OMB control numbers: 424 (0348-0043); 424A (0348-0044); 424B (0348-0040); Disclosure of Lobbying Activities (0348-0046); Financial Status Report (SF-269) (0348-0039) and ORR Quarterly Performance Report (0970-0036).

An agency may not conduct or sponsor, and a person is not required to respond to, a collection of information unless it displays a currently valid OMB control number.

Public reporting burden for this collection of information is estimated to average 10 hours per response, including the time for reviewing instructions, gathering and maintaining the data needed, and reviewing the collection of information.

Dated: August 18, 2005.
Nguyen Van Hanh,
Director, Office of Refugee Resettlement.

BILLING CODE 4184-01-P

[FR Doc. 05-17373 Filed 9-1-05; 8:45 am]

BILLING CODE 4184-01-C